DEPARTMENT OF HEALTH AND HUMAN SERVICES

National Institutes of Health

Submission for OMB Review; 30-Day Comment Request; The Atherosclerosis Risk in Communities Study (ARIC)

February 19, 2014.

SUMMARY: Under the provisions of Section 3507(a)(1)(D) of the Paperwork Reduction Act of 1995, the National Institutes of Health (NIH) has submitted to the Office of Management and Budget (OMB) a request for review and approval of the information collection listed below. This proposed information collection was previously published in the Federal Register on December 20, 2013 page 77138 and allowed 60-days for public comment. No public comments were received. The purpose of this notice is to allow an additional 30 days for public comment. The National Heart, Lung and Blood Institute (NHLBI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact either: Dr. Jacqueline Wright, 6701 Rockledge, Epidemiology Branch, Program in Prevention and Population Sciences, Division of Cardiovascular Sciences, National Heart, Lung, and Blood Institute, National Institutes of Health, 6701 Rockledge Dr, MSC 7936, Bethesda, MD 20892-7936, or call non-toll-free number 301-435-0384, or Email your request, including your address to jacqueline.wright@nih.gov . Formal requests for additional plans and instruments must be requested in writing.

Proposed Collection: The Atherosclerosis Risk in Communities Study (ARIC), Revised, National Heart, Lung and Blood Institute (NHLBI), National Institutes of Health (NIH).

Need and Use of Information Collection: The purpose and use of the information collection for this project is examine the major factors contributing to the occurrence of and the trends for cardiovascular diseases among men, women, African Americans and white persons in four U.S. communities: Forsyth County, North Carolina; Jackson, Mississippi; suburbs of Minneapolis, Minnesota; and Washington County, Maryland. The cohort in Jackson is selected to represent only African American residents of the city. The primary objectives of the study are to: (1) Investigate factors associated with both atherosclerosis and clinical cardiovascular diseases and (2) measure occurrence of and trend in coronary heart disease (CHD) and heart failure, and relate them to community levels of risk factors, medical care, and atherosclerosis.

OMB approval is requested for 3 years. There are no costs to respondents other than their time. The total estimated annualized burden hours are 15,714.

Estimated Annualized Burden Hours
Type of response | Number of respondents | Frequency of responses | Time per response | Burden (hours)
Participant:
Annual Follow-up Form (Attachment 1) Semiannual Follow-up Form (Attachment 2) | 10,049 | 6 | 15/60 | 15,074
Subtotal (participant) |  |  |  | 15,074
Non-Participant:
a. Coroner/Medical Examiner Form (Attachment 3) | 690 | 1 | 10/60 | 115
b. Informant Interview Form (Attachment 4) | 570 | 1 | 10/60 | 95
c. Heart Failure Survey (Attachment 5) | 1200 | 1 | 10/60 | 200
d. Physician Questionnaire Form (Attachment 6) | 2760 | 1 | 5/60 | 230
Subtotal (non-participant) | 5,220 |  |  | 640

Dated: February 19, 2014.
Michael Lauer,
Director, DCVS, NHLBI, NIH.
Dated: February 19, 2014.
Lynn Susulske,
NHLBI Project Clearance Liaison,National Institutes of Health.

[FR Doc. 2014-04583 Filed 2-28-14; 8:45 am]

BILLING CODE 4140-01-P